NATIONAL ARCHIVES AND RECORDS ADMINISTRATION

Services for Persons With Limited English Proficiency; Comment Request

AGENCY: National Archives and Records Administration (NARA).

ACTION: Notice.

SUMMARY: The public is invited to comment on National Archives and Records Administration (NARA) programs and activities available to persons with limited English proficiency (LEP) and steps that the agency could take to ensure that persons with LEP have meaningful access to NARA services. NARA will use the information gathered from this notice and other outreach efforts to develop a plan to improve access to its programs and activities by eligible LEP persons.

DATES: Written comments should be received on or before November 30, 2000.

ADDRESSES: Comments should be sent to: Comments on Services for Persons with Limited English Proficiency, Attn: Diane Dimkoff (NWCC), Room 2400, National Archives and Records Administration, 8601 Adelphi Rd, College Park, MD 20740-6001; faxed to 301-713-7482; or electronically mailed to comments@arch2.nara.gov.

FOR FURTHER INFORMATION CONTACT: Requests for additional information should be directed to Diane Dimkoff at telephone number 301-713-6107, or fax number 301-713-7482.

SUPPLEMENTARY INFORMATION:

Background

On August 11, 2000, President Clinton issued Executive Order 13166, entitled “Improving Access to Services for Persons With Limited English Proficiency.” 65 FR 50119 (August 16, 2000). The Executive Order directs each Federal agency to examine the services it provides to persons who, as a result of national origin, are limited in their English proficiency. Agencies must then develop a plan and implement measures that will enable persons with LEP to have meaningful access to the agency's programs and activities, consistent with the fundamental mission of the agency. NARA will submit its LEP plan to the Department of Justice for review and approval by December 11, 2000.

As part of this process, NARA is consulting its stakeholders for input on the needs of persons with LEP. NARA is requesting comment from persons with LEP, their representative organizations, as well as grant applicants and recipients, and any other individuals or entities that make use of NARA programs, facilities, activities and financial opportunities.

NARA's Programs and Activities

NARA establishes policies and procedures for managing U.S. Government records and assists Federal agencies in documenting their activities and administering records management programs. NARA preserves and provides access to the essential documentation of the three branches of Government through a nationwide system of archival facilities, records storage facilities, and Presidential Libraries. NARA operates research rooms, answers written and oral requests for information on its holdings, provides copies of records, offers public programs and exhibits, and makes information available on its web site at http://www.nara.gov. The National Historical Publications and Records Commission (NHPRC), a statutory body affiliated with NARA, makes grants nationwide to help nonprofit and educational organizations identify, preserve, and provide access to materials that document American history. NARA also publishes Federal laws and regulations, and Presidential and other public documents. It also manages Federal classification and declassification policies.

Ensuring Meaningful Access to Persons With Limited English Proficiency

NARA will use the information gathered from this notice and other outreach activities to evaluate its services and develop a plan to ensure that eligible persons with LEP have meaningful access to NARA's programs and activities, including NHPRC grants. NARA will assess the language needs of its customers, develop a comprehensive written policy on language access, increase awareness of language needs in staff training and customer service, and regularly monitor and assess the language needs of customers and the effectiveness of NARA's language assistance program. NARA will provide its LEP customers with access to NARA's programs and activities in a way that is practical, effective, fiscally responsible, and capable of being readily implemented.

Dated: October 25, 2000.
John W. Carlin,
Archivist of the United States.

[FR Doc. 00-27901 Filed 10-30-00; 8:45 am]

BILLING CODE 7515-01-U